DEPARTMENT OF ENERGY

Federal Energy Regulatory Commission

[Docket No. ER16-1649-000]

California Independent System Operator Corporation; Notice Rescheduling Technical Conference

July 18, 2016.

The technical conference originally scheduled for September 30, 2016, in the above-referenced proceeding, is hereby rescheduled to convene on September 16, 2016, at 10:00 a.m. (Eastern Time). It will occur at the Commission's offices at 888 First Street, NE., Washington, DC 20426.¹

¹ See the Notice of Technical Conference issued on July 14, 2016, for additional details regarding this conference.

Dated: July 18, 2016.
Kimberly D. Bose,
Secretary.

[FR Doc. 2016-17519 Filed 7-25-16; 8:45 am]

BILLING CODE 6717-01-P